DEPARTMENT OF ENERGY

Federal Energy Regulatory Commission

[Project No. 1005-011]

City of Boulder, CO; Notice of Availability of Environmental Assessment

November 5, 2010.

In accordance with the National Environmental Policy Act of 1969 and the Federal Energy Regulatory Commission's (Commission) regulations, 18 CFR part 380 (Order No. 486, 52 FR 47879), the Office of Energy Projects has prepared an environmental assessment (EA) for an application filed by City of Boulder, Colorado (licensee) on March 10, 2009, requesting Commission approval to exempt its currently licensed Boulder Canyon Hydroelectric Project from the licensing requirements of Part I of the Federal Power Act (FPA) and to surrender its license for the project. The project is located on the Middle Boulder Creek, in Boulder County, Colorado. The licensee requests to surrender the following licensed project features: (1) The Barker Reservoir; (2) the Barker Dam; (3) the outlet structure; (4) the concrete tunnel; (5) the valve house; (6) the concrete Barker gravity pipeline; (7) the Kossler Reservoir, including the Southwest Dam, the Northeast Dam, and the West Dam; (8) the concrete outlet structure, including the trash screens and a gate; and (9) the steel penstock. The licensee states that the exempted project would consist of the existing powerhouse containing one generating unit having an installed capacity of 10 MW and appurtenant facilities. The licensee estimates that the project would have an average annual generation of 11.6 megawatt-hours that would be sold to a local utility.

The EA evaluates the environmental impacts that would result from approving the licensee's proposal for surrender of its project license and conversion to a conduit exemption. The EA finds that granting surrender of the license and issuing the exemption for the Boulder Canyon Hydroelectric Project would not constitute a major federal action significantly affecting the quality of the human environment.

A copy of the EA is attached to a Commission Order titled “Order Granting Exemption From Licensing (Conduit) and Accepting Surrender of License,” issued November 5, 2010, and is on file with the Commission and is available for public inspection. The EA may also be viewed on the Commission's Web site at http://www.ferc.gov using the “eLibrary” link. Enter the docket number (P-1005) excluding the last three digits in the docket number field to access the document. For assistance, contact FERC Online Support at FERCOnlineSupport@ferc.gov or toll-free at 1-866-208-3372, or for TTY, (202) 502-8659.

Kimberly D. Bose,
Secretary.

[FR Doc. 2010-28475 Filed 11-10-10; 8:45 am]

BILLING CODE 6717-01-P